DEPARTMENT OF HEALTH AND HUMAN SERVICES

Office of the Secretary

Office of Inspector General

Statement of Organization, Functions, and Delegations of Authority

This notice amends Part A (Office of the Secretary), chapter AF of the Statement of Organization, Functions, and Delegations of Authority for the Department of Health and Human Services (HHS) to reflect title changes and responsibilities within the Office of Inspector General's (OIG) Office of Investigations (OI). The statement of organization, functions, and delegations of authority conforms to and carries out the statutory requirements for operating OIG. These organizational changes are primarily to balance investigative operations and investigative support functions within OI, more clearly delineate responsibilities for the activities within this office, and facilitate the most efficient and effective health care fraud investigations. Chapter AF was last amended on December 21, 2006 (71 FR 76676).

As amended, sections AFJ.00, AFJ.10, and AFJ.20 of Chapter AF now read as follows:

* * * * *

Section AFJ.00, Office of Investigations—Mission

The Office of Investigations (OI) is responsible for conducting and coordinating investigative activities related to fraud, waste, abuse, and mismanagement in HHS programs and operations, including wrongdoing by applicants, grantees, and contractors, or by HHS employees in the performance of their official duties. The office serves as OIG liaison to Department of Justice on all matters relating to investigations of HHS programs and personnel, and reports to the Attorney General when OIG has reasonable grounds to believe Federal criminal law has been violated. The office serves as a liaison to CMS, State licensing boards, and other outside organizations and entities with regard to exclusion, compliance, and enforcement activities. OI works with other investigative agencies and organizations on special projects and assignments. In support of its mission, the office carries out and maintains an internal quality assurance system. The system includes quality assessment studies and quality control reviews of OI processes and products to ensure that policies and procedures are followed effectively, and are functioning as intended.

Section AFJ.10, Office of Investigations—Organization

This office is comprised of the following components:

A. Immediate Office

B. Investigations Division 1

C. Investigations Division 2

Section AFJ.20, Office of Investigations—Functions

A. Immediate Office of the Deputy Inspector General for Investigations

This office is directed by the Deputy Inspector General for Investigations (DIGI), who is responsible for the functions designated in the law for the position Assistant Inspector General for Investigations. The DIGI supervises the Assistant Inspector General for Investigations Division 1, the Assistant Inspector General for Investigations Division 2, and the Special Advisor who heads the offices described below.

The DIGI is responsible to the Inspector General for carrying out the investigative mission of OIG and for providing and leading general supervision to the OIG investigative component. The Immediate Office provides broad guidance and instruction to staff and serves as the focal point for interaction within OIG. The Immediate Office handles all investigative and management advisory services for the DIGI, ensuring that the DIGI is briefed on all complex, sensitive, and precedent setting program and administrative issues that may significantly impact on OI management and the investigative program nationwide. The Special Advisor to the DIGI will supervise the Special Investigations Unit (SIU) Director and a group of inspectors. The SIU will conduct investigations concerning alleged electronic and computer-related violations, as well as conduct sensitive and complex investigations concerning alleged misconduct by OIG and some Department employees. Separately, the inspectors who report directly to the Special Advisor will conduct the most sensitive investigations involving senior officials, political appointees, national security issues, and subjects of high media interest. Additionally, those inspectors will coordinate special projects as assigned by the Special Advisor and investigations involving Congress and top echelon Executive Branch Officials.

B. Investigations Division 1

This office is directed by an Assistant Inspector General for Investigations who supervises a headquarters staff and Special Agents in Charge.

1. The headquarters staff assists the Deputy Inspector General for Investigations in establishing investigative priorities, evaluating the progress of investigations, and reporting to the Inspector General on the effectiveness of investigative efforts. It develops and implements investigative techniques, programs, guidelines, and policies. It provides programmatic expertise and issues information on new programs, regulations and statutes. It directs and coordinates the regional investigative offices.

2. The headquarters staff identifies systemic and programmatic vulnerabilities in the Department's operations and makes recommendations for change to the appropriate managers.

3. This office manages the human and financial resources of OI, including developing staffing allocation plans and issuing policy for coordination and monitoring all budget, staffing and recruiting.

4. This office coordinates the general management processes, and implements policies and procedures published in the OI Policies and Procedures Manual and OI Administrative Manual. It also coordinates a national inspection program to ensure compliance with the Federal Managers Financial Integrity Act, the President's Council on Integrity and Efficiency, and Attorney General guidelines.

5. This office coordinates with the other OIG components in developing the Work Plan and provides input to the Office of Inspector General Semiannual Report to the Congress.

6. This office develops all derivative mandatory and permissive program exclusions, and ensures enforcement of exclusions imposed through liaison with CMS, DOJ and other governmental and private sector entities. It is responsible for developing, improving and maintaining a comprehensive and coordinated OIG database on all OIG exclusion actions, and promptly and accurately reports all exclusion actions within its authority to the database. It informs appropriate regulatory agencies, health care providers and the general public of all OIG exclusion actions, and is responsible for improving public access to information on these exclusion actions to ensure that excluded individuals and entities are effectively barred from program participation.

7. This office provides advisory services and assistance to CMS officials, HHS officials, and OIG senior managers through liaison activity. It is responsible for providing program and policy direction necessary to accomplish all CMS work requirements, and to direct other activities in compliance with all legal requirements, OI policies and procedures.

8. The regional offices within this Investigations Division conduct investigations of allegations of fraud, waste, abuse, mismanagement and violations of standards of conduct within the jurisdiction of OIG in their assigned geographic areas. They coordinate investigations and confer with HHS operating divisions, staff divisions, OIG counterparts and other investigative and law enforcement agencies. They prepare investigative and management improvement reports.

C. Investigations Division 2

This office is directed by an Assistant Inspector General for Investigations who supervises a headquarters staff and Special Agents in Charge.

1. This office plans, develops, implements and evaluates all levels of employee training for investigators, managers, support staff and other personnel. It oversees a law enforcement techniques and equipment program.

2. The staff provides for the personal protection of the Secretary, and all emergency operations preparedness and response.

3. The office promotes and coordinates the adoption of advanced information technology forensics in the prevention and detection of fraud and provides general and specific coordination of programs to retrieve and analyze computer-based forensic evidence.

4. The office operates a toll-free hotline for OIG to permit individuals to call in suspected fraud, waste, or abuse; refers the calls for appropriate action by HHS agencies or other OIG components; and analyzes the body of calls to identify trends and patterns of fraud and abuse needing attention.

5. The office maintains an automated data and management information system used by all OI managers and investigators. It provides technical expertise on computer applications for investigations and coordinates and approves investigative computer matches with other agencies.

6. The regional offices within this Investigations Division conduct investigations of allegations of fraud, waste, abuse, mismanagement and violations of standards of conduct within the jurisdiction of OIG in their assigned geographic areas. They coordinate investigations and confer with HHS operating divisions, staff divisions, OIG counterparts and other investigative and law enforcement agencies. They prepare investigative and management implication reports.

Dated: February 1, 2008.
Daniel R. Levinson,
Inspector General.

[FR Doc. E8-2390 Filed 2-7-08; 8:45 am]

BILLING CODE 4152-01-P